DEPARTMENT OF LABOR

Employment and Training Administration

[TA-W-51,219]

Gemini Gas Compressors Corpus Christi, Texas; Notice of Termination of Investigation

Pursuant to section 221 of the Trade Act of 1974, as amended, an investigation was initiated on March 19, 2003, in response to a worker petition filed March 10, 2003, on behalf of workers at Gemini Gas Compressors, Corpus Christi, Texas.

The petitioning group of workers is covered by an earlier petition filed on March 17, 2003 (TA-W-51,180) that is the subject of an ongoing investigation for which a determination has not yet been issued. Further investigation in this case would duplicate efforts and serve no purpose; therefore the investigation under this petition has been terminated.

Signed at Washington, DC this 6th day of May 2003.
Elliott S. Kushner,
Certifying Officer, Division of Trade Adjustment Assistance.

[FR Doc. 03-12570 Filed 5-19-03; 8:45 am]

BILLING CODE 4510-30-P